NATIONAL SCIENCE FOUNDATION

Agency Information Collection Activities: Comment Request; National Science Foundation Small Business Innovation Research (SBIR)/Small Business Technology Transfer (STTR) Pre-Award Information Collection

AGENCY: National Science Foundation.

ACTION: Notice.

SUMMARY: The National Science Foundation (NSF) is announcing plans to establish this collection. In accordance with the requirements of the Paperwork Reduction Act of 1995, we are providing opportunity for public comment on this action. After obtaining and considering public comment, NSF will prepare the submission requesting Office of Management and Budget (OMB) clearance of this collection for no longer than 3 years.

DATES: Written comments on this notice must be received by August 29, 2022 to be assured consideration. Comments received after that date will be considered to the extent practicable. Send comments to address below.

FOR FURTHER INFORMATION CONTACT: Suzanne H. Plimpton, Reports Clearance Officer, National Science Foundation, 2415 Eisenhower Avenue, Suite W18200, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION:

Title of Collection: National Science Foundation (NSF) Small Business Innovation Research (SBIR)/Small Business Technology Transfer (STTR) Pre-Award Information Collection.

OMB Control No.: 3145-New.

Expiration Date of Approval: Not applicable.

Abstract: The NSF SBIR/STTR programs focus on transforming scientific discovery into products and services with commercial potential and/or societal benefit. Unlike fundamental or basic research activities that focus on scientific and engineering discoveries, the NSF SBIR/STTR programs support the creation of opportunities to move fundamental science and engineering out of the lab and into the market at scale, through startups and small businesses representing deep technology ventures.

The NSF SBIR/STTR programs have two phases: Phase I and Phase II. Phase I is a 6-12 month experimental or theoretical investigation that allows the awardees to determine the scientific and technical feasibility, as well as the commercial merit of the idea or concept. Phase II further develops the proposed concept, with a goal of working toward the commercial launch of the new product, process, or service being developed.

The NSF SBIR/STTR programs request the Office of Management and Budget (OMB) approval of this clearance that will allow the programs to collect information from a selected group of applicants—those that have been reviewed by independent experts and that NSF Program Directors are considering recommending for funding—for the purpose of making a funding decision. This information includes, but is not exclusive to, a list of company officers and the corresponding ownership status of each company officer within the startup, whether the startup is associated or affiliated with other companies, whether there exist any relationships (personal, financial, and/or professional) between project personnel, and the locations of all the facilities where significant research will be performed for the proposed project. Such data will enable the NSF Program Directors to evaluate a given company's business structure, ascertain the level of commitment of the Principal Investigator (PI) and co-PIs to the startup venture, and identify conflicts of interests (if any), as part of the due diligence process that the programs undertake to verify there are no fraudulent or inappropriate business practices prior to recommending the small business for an award.

Following standard OMB requirements, NSF will request OMB approval in advance and provide OMB with a copy of the form containing these questions. Data collected will be used strictly for due-diligence, auditing, and/or legal purposes, and are needed for effective pre-award management, administration, and/or program monitoring. The applicants, if being considered for award, will only be asked to submit a signed form containing their responses to the questions once for each NSF SBIR/STTR proposal (Phase I and II, if applicable). The data collection burden to the selected applicants will be limited to no more than 10 minutes of the respondents' time in each instance. Summaries of the collected data are also being used to respond to queries from Congress, the Small Business Administration, the public, NSF's external merit reviewers who serve as advisors, including Committees of Visitors, NSF's Office of the Inspector General, and other pertinent stakeholders

Respondents: PIs listed on the NSF SBIR/STTR proposals.

Estimated Number of Annual Respondents: 750.

Burden on the Public: The overall annualized cost to the respondents is estimated to be $5,500. The following table shows the annualized estimate of costs to PIs who are generally university assistant professors. This estimated hourly rate is based on a report from the American Association of University Professors, “Annual Report on the Economic Status of the Profession, 2020-21,” Academe, March-April 2021, Survey Report Table 1. According to this report, the average salary of an assistant professor across all types of doctoral-granting institutions was $91,408. When divided by the number of standard annual work hours (2,080), this calculates to approximately $44 per hour.

Respondent type | Number of respondents | Burden hours per respondent | Average hourly rate | Estimated annual cost
PIs | 750 | 0.167 | $44 | $5,500
Total |  |  |  | 5,500

Dated: June 23, 2022.
Suzanne H. Plimpton,
Reports Clearance Officer, National Science Foundation.

[FR Doc. 2022-13728 Filed 6-27-22; 8:45 am]

BILLING CODE 7555-01-P